ENVIRONMENTAL PROTECTION AGENCY

[FRL-9175-1]

RIN 2040-AD94

Drinking Water Strategy Contaminants as Group(s)—Notice of Web Dialogue

AGENCY: Environmental Protection Agency (EPA).

ACTION: Notice.

SUMMARY: On March 22, 2010, Administrator Lisa P. Jackson announced the Drinking Water Strategy, a new vision to expand public health protection for drinking water by going beyond the traditional framework. The Drinking Water Strategy includes the following four principles: Addressing some contaminants as group(s) rather than one at a time so that enhancement of drinking water protection can be achieved cost-effectively; fostering development of new drinking water technologies to address health risks posed by a broad array of contaminants; using the authority of multiple statutes to help protect drinking water; and partnering with States to share more complete data from monitoring at public water systems. EPA is committed to engaging the public and stakeholders as we move forward to implement the four principles. The purpose of this notice is to announce that EPA will host a Web dialogue. The discussion topics for this Web dialogue are focused on the first of the four principles, addressing some contaminants as group(s) rather than addressing single contaminants. EPA invites the public and stakeholders to participate in this information exchange on addressing contaminants as group(s).

DATES: The Web dialogue is a two-day event. It will open at 9 a.m., Eastern Daylight Time (6 a.m., Pacific Daylight Time) on Wednesday, July 28, 2010, and will close at 6 p.m., Eastern Daylight Time on Thursday, July 29, 2010.

ADDRESSES: This meeting will take place on the Internet at http://www.webdialogues.net/epa/dwcontaminantgroups.

FOR FURTHER INFORMATION CONTACT: For technical inquiries, contact Shari Bauman, Standards and Risk Management Division, Office of Ground Water and Drinking Water (MC 4607M), Environmental Protection Agency, 1200 Pennsylvania Ave., NW., Washington, DC 20460 at (202) 564-0293, or bauman.shari@epa.gov.

SUPPLEMENTARY INFORMATION: The meeting is open to the public. During the Web dialogue, EPA plans to solicit input on the potential approaches associated with addressing contaminants as group(s). The proposed discussion topics are:

• Addressing Drinking Water Contaminants as Groups.

• Fitting Groups Within the Safe Drinking Water Act.

• Defining Groups.

• Group Technical Approaches.

• Group Implementation Approaches.

Individuals interested in engaging in the Web dialogue information exchange must register at http://www.webdialogues.net/epa/dwcontaminantgroups. Registration will open on July 7, 2010. Any person interested in viewing the discussions without comment is not required to register.

The Web dialogue is an opportunity for all registered participants to exchange information and share ideas that they would like for EPA to consider when developing a framework to address contaminants as group(s).

For more information about the Drinking Water Strategy, visit http://www.epa.gov/safewater/sdwa/dwstrategy.html.

Dated: July 7, 2010.
Cynthia C. Dougherty,
Director, Office of Ground Water and Drinking Water.

[FR Doc. 2010-17028 Filed 7-12-10; 8:45 am]

BILLING CODE 6560-50-P